DEPARTMENT OF THE TREASURY

Office of Foreign Assets Control

Designation of Four (4) Individuals and Five (5) Entities Pursuant to Executive Order 13628 of October 9, 2012

AGENCY: Office of Foreign Assets Control, Treasury.

ACTION: Notice.

SUMMARY: The Treasury Department's Office of Foreign Assets Control (“OFAC”) is publishing the name of four (4) individuals and five (5) entities designated on November 8, 2012, as persons whose property and interests in property are blocked pursuant to Executive Order 13628 of October 9, 2012, “Authorizing the Implementation of Certain Sanctions Set Forth in the Iran Threat Reduction and Syria Human Rights Act of 2012 and Additional Sanctions With Respect to Iran.”

DATES: The designation by the Director of OFAC of the four (4) individuals and five (5) entities identified in this notice, pursuant to Executive Order 13628 of October 9, 2012, is effective November 8, 2012.

FOR FURTHER INFORMATION CONTACT: Assistant Director, Sanctions Compliance and Evaluation, Office of Foreign Assets Control, Department of the Treasury, Washington, DC 20220, tel.: 202/622-2490.

SUPPLEMENTARY INFORMATION:

Electronic and Facsimile Availability

This document and additional information concerning OFAC are available from OFAC's Web site (www.treasury.gov/ofac) or via facsimile through a 24-hour fax-on demand service tel.: (202) 622-0077.

Background

On October 9, 2012, the President issued Executive Order 13628, “Authorizing the Implementation of Certain Sanctions Set Forth in the Iran Threat Reduction and Syria Human Rights Act of 2012 and Additional Sanctions With Respect to Iran” (the “Order”), pursuant to the International Emergency Economic Powers Act (50 U.S. C. 1701 et seq.), the National Emergencies Act (50 U.S.C. 1601 et seq.), the Iran Sanctions Act of 1996 (Pub. L. 104-172) (50 U.S.C. 1701 note), as amended, the Comprehensive Iran Sanctions, Accountability, and Divestment Act of 2010 (Pub. L. 111-195) (22 U.S.C. 8501 et seq.), as amended, the Iran Threat Reduction and Syria Human Rights Act of 2012 (Pub. L. 112-158), Section 212(f) of the Immigration and Nationality Act of 1952, as amended (8 U.S.C. 1182(f)), and Section 301 of title 3, United States Code.

Section 3 of the Order blocks, with certain exceptions, all property and interests in property that are in the United States, that come within the United States, or that are or come within the possession or control of any United States person, of persons determined by the Secretary of the Treasury, in consultation with, or at the recommendation of, the Secretary of State, to satisfy certain criteria set forth in the Order.

On November 8, 2012, the Director of OFAC, in consultation with or at the recommendation of, the Secretary of State, designated, pursuant to Section 3 of the Order, four (4) individuals and five (5) entities whose names have been added to the list of Specially Designated Nationals and Blocked Persons and whose property and interests in property are blocked. The listing for these individuals and entities is below.

Individuals:

1. MOGHADAM, Ismail Ahmadi (a.k.a. AHMADI MOGHADAM, Ismail; a.k.a. AHMADI MOGHADDAM, Esma'il; a.k.a. AHMADI-MOGHADDAM, Esma'il; a.k.a. AHMADI-MOGHADDAM, Esmail; a.k.a. AHMADI-MOQADDAM, Esma'il; a.k.a. MOGHADDAM, Esameel Ahmadi; a.k.a. MOGHADDAM, Ismail Ahmadi); DOB 1961; POB Tehran, Iran; Head of Iranian Police; Alternate Title, Chief, Iran's Law Enforcement Forces; Alternate Title, Police Chief, Alternate Title, Commander of Iran's Law Enforcement Force; Alternate Title, Brigadier General (individual) [SYRIA] [IRAN-HR] [IRAN-TRA]

2. FAZLI, Ali; DOB 20 Apr 1961; alt. DOB 1951; POB Sarkan, Hamedan Province, Iran; Rank Brigadier General; Title Basij Deputy Commander (individual) [IRAN-TRA]

3. JALILI, Rasool (a.k.a. JALILI, RASOUL), 90 Park Ave, Farahzadi St, Tehran, Iran; DOB 19 Aug 1961; POB Eghlid, Fars Province, Iran; Web site http://www.jalili.ir; alt. Web site http://sharif.edu/~jalili; email Address jalili@sharif.edu; alt. email Address rjalili@yahoo.com; alt. email Address rasoul.jalili@peykasa.ir; Passport N15792968; Associate Professor, Department of Computer Engineering, Sharif University of Technology; Alternate Title, Editor-In-Chief of ISeCure; Alternate Title, Dean of Scientific and International Cooperation, Sharif University of Technology; Alternate Title, Head, Information Technology Group, Sharif University of Technology (individual) [IRAN-TRA]

4. TAGHIPOUR, Reza (a.k.a. TAGHIPOUR ANVARI, Reza); DOB 1957; POB Maragheh, Iran; Minister of Communications and Information Technology; Minister for Information and Communications (individual) [IRAN-TRA]

Entities

1. AMNAFZAR GOSTAR-E SHARIF (a.k.a. AMNAFZAR; a.k.a. AMNAFZAR CORPORATION; a.k.a.SHARIF SECUREWARE), 5th Floor, No. 35, Qasemi St, North Side of Sharif University, Azadi Avenue, Tehran, Iran; No. 131, Pardis Technology Park, Pardis, Iran; Unit 3, 2nd Floor, No. 1176, Between 52, 54 VakilAbadi Blvd., Mashhad, Iran; Shahid Beheshti Ave, Sahand St., No. 20, 3rd, Tehran 1587677518, Iran; Web site http://www.amnafzar.com; email Address info@amnafzar.com [IRAN-TRA]

2. CENTER TO INVESTIGATE ORGANIZED CRIME (a.k.a. CENTER FOR INSPECTING ORGANISED CRIMES; a.k.a. CENTER FOR THE STUDY OF ORGANIZED CRIME; a.k.a. CYBER CRIME OFFICE), Tehran, Iran; Web site http://www.gerdab.ir [IRAN-TRA]

3. MINISTRY OF CULTURE AND ISLAMIC GUIDANCE, Bahrestan Square, Avenue Kamalolmolik, Tehran, Iran [IRAN-TRA]

4. PEYKASA (a.k.a. PEYKASA MESSAGE-WARE CO.), No. 10, #4 Alley, Sadeghi Street, West Corner of Sharif University, Zazadi Avenue, Tehran, Iran; Web site http://peykasa.com; Email Address info@peykasa.ir; alt. email Address rasoul.jalili@peykasa.ir [IRAN-TRA]

5. PRESS SUPERVISORY BOARD (a.k.a. IRANIAN PRESS SUPERVISORY BOARD), Tehran, Iran [IRAN-TRA]

Dated: November 8, 2012.
Adam J. Szubin,
Director, Office of Foreign Assets Control.

[FR Doc. 2012-27938 Filed 11-15-12; 8:45 am]

BILLING CODE 4810-AL-P